DEPARTMENT OF ENERGY

Federal Energy Regulatory Commission

[Docket Nos. ER02-925-000 and ER02-925-001]

Southern California Edison Company; Notice of Informal Settlement Conference

August 23, 2002.

Take notice that an informal settlement conference will be convened in this proceeding commencing at 10 am on September 4th and 5th, 2002, at the offices of the Federal Energy Regulatory Commission, 888 First Street, NE., Washington, DC, 20426, for the purpose of exploring the possible settlement of the above-referenced dockets.

Any party, as defined by 18 CFR 385.102(c), or any participant as defined by 18 CFR 385.102(b), is invited to attend. Persons wishing to become a party must move to intervene and receive intervenor status pursuant to the Commission's regulations (18 CFR 385.214).

For additional information, please contact or Thomas J. Burgess (202) 502-6058 or Dawn K. Martin (202) 502-8661.

Linwood A. Watson, Jr.,
Deputy Secretary.

[FR Doc. 02-22027 Filed 8-27-02; 8:45 am]

BILLING CODE 6717-01-P